DEPARTMENT OF TRANSPORTATION

Surface Transportation Board

[Docket No. FD 35903]

Eric Bickleman and Robert Lowe-Continuance in Control Exemption-Elizabethtown Industrial Railroad LLC

Eric Bickleman and Robert Lowe (collectively, applicants) have jointly filed a verified notice of exemption pursuant to 49 CFR 1180.2(d)(2) to continue in control of Elizabethtown Industrial Railroad LLC (EZR), upon EZR's becoming a Class III rail carrier.

This transaction is related to a concurrently filed verified notice of exemption in Elizabethtown Industrial Railroad—Operation Exemption—Rail Holdings, Inc., Docket No. FD 35902, in which EZR seeks Board approval to operate a 1.0-mile line of railroad, known as the Conewago Industrial Track, between the connection with the Norfolk Southern Railway Company's main line at milepost 1.0 in Conewago, and milepost 0.0 in West Donegal Township, in Lancaster County, Pa.

This transaction may be consummated on March 20, 2015 (the effective date of this notice).

Applicants currently control one Class III rail carrier, Clinton Terminal Railroad Company, which operates in the State of North Carolina.

Applicants certify that: (1) The rail lines to be operated by EZR do not connect with any other railroads operated by the carriers in the applicants' corporate family; (2) the continuance in control is not part of a series of anticipated transactions that would connect the rail lines to be operated by EZR with any other railroad in applicants' corporate family; and (3) the transaction does not involve a Class I rail carrier. Therefore, the transaction is exempt from the prior approval requirements of 49 U.S.C. 11323. See 49 CFR 1180.2(d)(2).

Under 49 U.S.C. 10502(g), the Board may not use its exemption authority to relieve a rail carrier of its statutory obligation to protect the interests of its employees. Section 11326(c), however, does not provide for labor protection for transactions under 11324 and 11325 that involve only Class III rail carriers. Accordingly, the Board may not impose labor protective conditions here because all of the carriers involved are Class III carriers.

If the notice contains false or misleading information, the exemption is void ab initio. Petitions to revoke the exemption under 49 U.S.C. 10502(d) may be filed at any time. The filing of a petition to revoke will not automatically stay the effectiveness of the exemption. Stay petitions must be filed no later than March 13, 2015 (at least seven days before the exemption becomes effective).

An original and 10 copies of all pleadings, referring to Docket No. FD 35903, must be filed with the Surface Transportation Board, 395 E Street SW., Washington, DC 20423-0001. In addition, one copy of each pleading must be served on John K. Fiorilla, Capehart & Scatchard, P.A., 8000 Midlantic Drive, Suite 300S, Mount Laurel, NJ 08054.

Board decisions and notices are available on our Web site at WWW.STB.DOT.GOV.

Decided: March 3, 2015.
By the Board, Rachel D. Campbell, Director, Office of Proceedings.
Brendetta S. Jones,
Clearance Clerk.

[FR Doc. 2015-05208 Filed 3-5-15; 8:45 am]

BILLING CODE 4915-01-P